DEPARTMENT OF TRANSPORTATION

Federal Aviation Administration

[Summary Notice No. PE-2004-77]

Petitions for Exemption; Dispositions of Petitions Issued

AGENCY: Federal Aviation Administration (FAA), DOT.

ACTION: Notice of dispositions of prior petitions.

SUMMARY: Pursuant to FAA's rulemaking provisions governing the application, processing, and disposition of petitions for exemption part 11 of title 14, Code of Federal Regulations (14 CFR), this notice contains a summary of certain dispositions of certain petitions previously received. The purpose of this notice is to improve the public's awareness of, and participation in, this aspect of FAA's regulatory activities.

FOR FURTHER INFORMATION CONTACT: Tim Adams (202) 267-8033, or Sandy Buchanan-Sumter (202) 267-7271, Office of Rulemaking (ARM-1), Federal Aviation Administration, 800 Independence Avenue, SW., Washington, DC 20591.

This notice is published pursuant to 14 CFR 11.85 and 11.91.

Issued in Washington, DC, on October 5, 2004.
Anthony F. Fazio,
Director, Office of Rulemaking.

Dispositions of Petitions

Docket No.: FAA-2002-13602.

Petitioner: Eagle Aviation, Inc.

Section of 14 CFR Affected: 14 CFR 135.143(c)(2).

Description of Relief Sought/Disposition: To permit Eagle Aviation, Inc., to operate certain aircraft under part 135 without a TSO-C112 (Mode S) transponder installed on those aircraft. Grant, 08/20/2004, Exemption No. 7919A.

Docket No.: FAA-2002-13369.

Petitioner: Aero Sports Connection.

Section of 14 CFR Affected: 14 CFR 135.143(c)(2).

Description of Relief Sought/Disposition: To permit Aero Sports Connection to operate certain aircraft under part 135 without a TSO-C112 (Mode S) transponder installed on those aircraft. Grant, 8/20/2004, Exemption No. 7390B.

Docket No.: FAA-2004-18899.

Petitioner: WorldWind Helicopters, Inc.

Section of 14 CFR Affected: 14 CFR 135.143(c)(2).

Description of Relief Sought/Disposition: To permit WorldWind Helicopters, Inc., to operate certain aircraft under part 135 without a TSO-C112 (Mode S) transponder installed on those aircraft. Grant, 8/23/2004, Exemption No. 8387.

Docket No.: FAA-2002-13288.

Petitioner: Ozark Air Charter Company, Inc.

Section of 14 CFR Affected: 14 CFR 135.143(c)(2).

Description of Relief Sought/Disposition: To permit Ozark Air Charter Company, Inc., to operate certain aircraft under part 135 without a TSO-C112 (Mode S) transponder installed on those aircraft. Grant, 8/23/2004, Exemption No. 7906A.

Docket No.: FAA-2004-18666.

Petitioner: Rotor Wing Aviation, LLC.

Section of 14 CFR Affected: 14 CFR 135.143(c)(2).

Description of Relief Sought/Disposition: To permit Rotor Wing Aviation, LLC to operate certain aircraft under part 135 without a TSO-C112 (Mode S) transponder installed on those aircraft. Grant, 8/20/2004, Exemption No. 8382.

Docket No.: FAA-2004-18735.

Petitioner: Morcom Aviation Services, Inc.

Section of 14 CFR Affected: 14 CFR 135.143(c)(2).

Description of Relief Sought/Disposition: To permit Morcom Aviation Services, Inc., to operate certain aircraft under part 135 without a TSO-C112 (Mode S) transponder installed on those aircraft. Grant, 8/20/2004, Exemption No. 8383.

Docket No.: FAA-2004-18696.

Petitioner: Aviation Expeditions.

Section of 14 CFR Affected: 14 CFR 135.143(c)(2).

Description of Relief Sought/Disposition: To permit Aviation Expeditions to operate certain aircraft under part 135 without a TSO-C112 (Mode S) transponder installed on those aircraft. Grant, 8/20/2004, Exemption No. 8386.

Docket No.: FAA-2004-18866.

Petitioner: California Shock Trauma Air Rescue.

Section of 14 CFR Affected: 14 CFR 135.143(c)(2).

Description of Relief Sought/Disposition: To permit California Shock Trauma Air Rescue to operate certain aircraft under part 135 without a TSO-C112 (Mode S) transponder installed on those aircraft. Grant, 8/20/2004, Exemption No. 8384.

Docket No.: FAA-2004-18871.

Petitioner: Valley Air Express.

Section of 14 CFR Affected: 14 CFR 135.143(c)(2).

Description of Relief Sought/Disposition: To permit Valley Air Express to operate certain aircraft under part 135 without a TSO-C112 (Mode S) transponder installed on those aircraft. Grant, 8/20/2004, Exemption No. 8385.

Docket No.: FAA-2004-18950.

Petitioner: Dixie Air Charter, LLC.

Section of 14 CFR Affected: 14 CFR 135.143(c)(2).

Description of Relief Sought/Disposition: To permit Dixie Air Charter, LLC to operate certain aircraft under part 135 without a TSO-C112 (Mode S) transponder installed on those aircraft. Grant, 9/3/2004, Exemption No. 8395.

Docket No.: FAA-2000-8474.

Petitioner: Howell Enterprises, Inc.

Section of 14 CFR Affected: 14 CFR 135.143(c)(2).

Description of Relief Sought/Disposition: To permit Howell Enterprises, Inc., to operate certain aircraft under part 135 without a TSO-C112 (Mode S) transponder installed on those aircraft. Grant, 9/3/2004, Exemption No. 7427B.

Docket No.: FAA-2000-8434.

Petitioner: Air Transport Association of America, Inc.

Section of 14 CFR Affected: 14 CFR 121.652(a) and (c).

Description of Relief Sought/Disposition: To permit Air Transport Association of America, Inc., member airlines and any similarly situated part 121 operator, to permit a pilot in command (PIC) conducting operations under part 121 to perform an instrument approach procedure to the weather minima prescribed by this exemption during the first 100 hours of service as PIC, in the type of airplane he/she is operating, using an alternative means approved by the Administrator to satisfy the requirements of § 121.652(a) and (c). Grant, 8/28/2004, Exemption No. 5549G.

Docket No.: FAA-2001-10191.

Petitioner: Department of the Air Force.

Section of 14 CFR Affected: 14 CFR 91.209(a)(1) and (b).

Description of Relief Sought/Disposition: To permit the Department of the Air Force an amendment to Exemption No. 7960 that will allow the participation of other military services while conducting joint operations. Grant, 8/28/2004, Exemption No. 7960A.

Docket No.: FAA-2004-17905.

Petitioner: Cherry-Air, Inc.

Section of 14 CFR Affected: 14 CFR appendix G to part 91.

Description of Relief Sought/Disposition: To permit Cherry-Air, Inc., to operate its aircraft in reduced vertical separation minimum airspace without Cherry-Air or its aircraft complying with appendix G to part 91. Denial, 8/25/2004, Exemption No. 8393.

Docket No.: FAA-2001-9501.

Petitioner: United States Air Force.

Section of 14 CFR Affected: 14 CFR 91.209(a)(1) and (b).

Description of Relief Sought/Disposition: To permit the United States Air Force an amendment to Exemption No. 7687A that will extend the expiration date for 5 years and remove the requirement to issue a NOTAM. Grant, 8/26/2004, Exemption No. 7687B.

Docket No.: FAA-2002-13377.

Petitioner: Continental Micronesia, Inc.

Section of 14 CFR Affected: 14 CFR 121.440(a).

Description of Relief Sought/Disposition: To permit Continental Micronesia, Inc., to meet line check requirements using an alternative line check program. Grant, 8/28/2004, Exemption No. 7902A.

Docket No.: FAA-2000-8153.

Petitioner: American Airlines, Inc.

Section of 14 CFR Affected: 14 CFR 121.317(a).

Description of Relief Sought/Disposition: To permit American Airlines, Inc., to operate its Boeing 737 and 777 aircraft with “No Smoking” signs that are always illuminated. Grant, 8/28/2004, Exemption No. 6853C.

Docket No.: FAA-2000-8000.

Petitioner: Delta Air Lines, Inc.

Section of 14 CFR Affected: 14 CFR 121.434(c)(1)(ii).

Description of Relief Sought/Disposition: To permit Delta Air Lines, Inc., to substitute a qualified and authorized check airman in place of an FAA inspector to observe a qualifying pilot in command (PIC) while that PIC is performing prescribed duties during at least one flight leg that includes a takeoff and a landing when completing initial or upgrade training as specified in § 121.424. Grant, 8/28/2004, Exemption No. 7376D.

Docket No.: FAA-2000-8454.

Petitioner: United Airlines, Inc.

Section of 14 CFR Affected: 14 CFR 121.434(c)(1)(ii).

Description of Relief Sought/Disposition: To permit United Airlines, Inc., to substitute a qualified and authorized check airman in place of an FAA inspector to observe a qualifying pilot in command (PIC) while that PIC is performing prescribed duties during at least one flight leg that includes a takeoff and a landing when completing initial or upgrade training as specified in § 121.424 Grant, 9/8/2004, Exemption No. 6570F.

Docket No.: FAA-2004-18971.

Petitioner: Spirit Airlines.

Section of 14 CFR Affected: 14 CFR 121.623(a) and (d), 121.643, and 121.645(e).

Description of Relief Sought/Disposition: To permit Spirit Airlines to conduct its supplemental operations within the 48 contiguous United States and the District of Columbia using the flight regulations for alternate airports as required by § 121.619 and fuel reserve requirements as required by § 121.639 that are applicable to domestic operations. Grant, 9/9/2004, Exemption No. 8398.

Docket No.: FAA-2004-17232.

Petitioner: Raytheon Aircraft Charter & Management.

Section of 14 CFR Affected: 14 CFR 91.501.

Description of Relief Sought/Disposition: To permit Raytheon Aircraft Charter & Management to transport customers and aircraft parts for owners of Raytheon Aircraft Company-manufactured aircraft for a nominal fee. Denial, 9/9/2004, Exemption No. 8397.

Docket No.: FAA-2002-12010.

Petitioner: Taunton Airport Association, Inc.

Section of 14 CFR Affected: 14 CFR 135.251, 135.255, and 135.353, and appendices I and J to part 121.

Description of Relief Sought/Disposition: To permit Taunton Airport Association, Inc., to conduct local sightseeing flights at the Taunton Municipal Airport, Taunton, Massachusetts, on or about October 23, 2004, for compensation or hire, without complying with certain anti-drug and alcohol misuse prevention requirements of part 135, subject to certain conditions and limitations. Grant, 9/13/2004, Exemption No. 8401.

Docket No.: FAA-2003-15373.

Petitioner: Ameriflight, Inc.

Section of 14 CFR Affected: 14 CFR 135.85.

Description of Relief Sought/Disposition: To permit Ameriflight, Inc., and each Ameriflight pilot to transport FAA-certificated airmen who are employed as flight crewmembers by another part 121 or part 135 certificate holder, and who are fully current and qualified with that other part 121 or part 135 certificate holder subject to certain conditions and limitations. Grant, 9/8/2004, Exemption No. 8396.

Docket No.: FAA-2002-12249.

Petitioner: Aviation Systems Standards.

Section of 14 CFR Affected: 14 CFR 61.3(a) and (c).

Description of Relief Sought/Disposition: To permit Aviation Stystems Standards to issue facsimile pilot certificates and medical certificates to crewmembers whose certificates have been lost, destroyed, or misplaced. Grant, 9/10/2004, Exemption No. 7363B.

Docket No.: FAA-2002-14166.

Petitioner: Mr. Kent Ewing.

Section of 14 CFR Affected: 14 CFR 91.109(a).

Description of Relief Sought/Disposition: To permit Mr. Kent Ewing to conduct certain flight instruction and simulated instrument flights to meet the recent experience requirements in Beechcraft Bonanza, Baron, and Travel Air airplanes equipped with a functioning throwover control wheel in place of functioning dual controls. Grant, 9/10/2004, Exemption No. 7961A.

Docket No.: FAA-2000-8527.

Petitioner: SIMCOM Training Center.

Section of 14 CFR Affected: 14 CFR 91.9(a) and 91.531(a)(1) and (2).

Description of Relief Sought/Disposition: To permit SIMCOM Training Center and operators of Cessna Citation model 500, S550, 552, and 560 airplanes an amendment to Exemption No. 7487D that will specifically name the Cessna Citation models as the Bravo, Encore, and Ultra. Denial, 9/10/2004, Exemption No. 7487E.

Docket No.: FAA-2001-10269.

Petitioner: Executive Jet Aviation, Inc.

Section of 14 CFR Affected: 14 CFR 135.152(h)(1) through (h)(57), (i), and (j).

Description of Relief Sought/Disposition: To permit Executive Jet Aviation, Inc., to operate its Falcon 2000 aircraft without recording the parameters listed in § 135.152(h)(1) through (h)(57) within the ranges, accuracies, resolutions, and recording intervals specified in appendix F to part 135. Denial, 9/10/2004, Exemption No. 8400.

Docket No.: FAA-2004-19087.

Petitioner: Mesaba Aviation, Inc., d.b.a. Mesaba Airlines.

Section of 14 CFR Affected: 14 CFR 121.574(a)(1)(i) and (iii) and (3)(i).

Description of Relief Sought/Disposition: To permit Mesaba Aviation, Inc., d.b.a. Mesaba Airlines to allow its passengers to use oxygen storage and dispensing equipment for medical purposes while aboard Mesaba aircraft when the equipment is furnished and maintained by another part 121 certificate holder. Denial, 9/10/2004, Exemption No. 8399.

Docket No.: FAA-2002-13012.

Petitioner: Frontier Flying Service, Inc.

Section of 14 CFR Affected: 14 CFR 135.143(c)(2).

Description of Relief Sought/Disposition: To permit Frontier Flying Service, Inc., to operate certain aircraft under part 135 without a TSO-C112 (Mode S) transponder installed on those aircraft. Grant, 9/14/2004, Exemption No. 8402.

Docket No.: FAA-2004-19099.

Petitioner: Cottonwood Aviation, Inc.

Section of 14 CFR Affected: 14 CFR 135.143(c)(2).

Description of Relief Sought/Disposition: To permit Cottonwood Aviation, Inc., to operate certain aircraft under part 135 without a TSO-C112 (Mode S) transponder installed on those aircraft. Grant, 9/14/2004, Exemption No. 8403.

Docket No.: FAA-2004-18995.

Petitioner: Crystal Shamrock.

Section of 14 CFR Affected: 14 CFR 135.143(c)(2).

Description of Relief Sought/Disposition: To permit Crystal Shamrock to operate certain aircraft under part 135 without a TSO-C112 (Mode S) transponder installed on those aircraft. Grant, 9/17/2004, Exemption No. 8406.

Docket No.: FAA-2003-14204.

Petitioner: Abilene Aero, Inc.

Section of 14 CFR Affected: 14 CFR 135.143(c)(2).

Description of Relief Sought/Disposition: To permit Abilene Aero, Inc., to operate certain aircraft under part 135 without a TSO-C112 (Mode S) transponder installed on those aircraft. Grant, 9/17/2004, Exemption No. 7948B.

Docket No.: FAA-2000-8338.

Petitioner: Tatonduk Outfitters Limited d.b.a. Everts Air Alaska.

Section of 14 CFR Affected: 14 CFR 135.143(c)(2).

Description of Relief Sought/Disposition: To permit Tatonduk Outfitters Limited d.b.a. Everts Air Alaska to operate certain aircraft under part 135 without a TSO-C112 (Mode S) transponder installed on those aircraft. Grant, 9/16/2004, Exemption No. 7403C.

Docket No.: FAA-2003-14279.

Petitioner: South Aero, Inc.

Section of 14 CFR Affected: 14 CFR 135.143(c)(2).

Description of Relief Sought/Disposition: To permit South Aero, Inc., to operate certain aircraft under part 135 without a TSO-C112 (Mode S) transponder installed on those aircraft. Grant, 09/16/2004, Exemption No. 7985A.

Docket No.: FAA-2002-12484.

Petitioner: Dynamic Aviation.

Section of 14 CFR Affected: 14 CFR 137.53(c)(2).

Description of Relief Sought/Disposition: To permit Dynamic Aviation an amendment to Exemption No. 7827C that will allow Dynamic Aviation pilots to operate additional aircraft. Grant, 9/15/2004, Exemption No. 7827D.

Docket No.: FAA-2001-11090.

Petitioner: Army Aviation Heritage Foundation.

Section of 14 CFR Affected: 14 CFR 91.319, 119.5(g), and 119.25.

Description of Relief Sought/Disposition: To permit an extension of Exemption No. 7736 to the Army Aviation Heritage Foundation (AAHF), which will allow them to operate its former military UH-1H helicopter for the purpose of carrying passengers on local educational flights, subject to revised conditions and limitations. Grant, 9/16/2004, Exemption No. 7736C.

Docket No.: FAA-2004-19071.

Petitioner: Mr. Daryl Baker.

Section of 14 CFR Affected: 14 CFR 135.251, 135.255, and 135.353, and appendices I and J to part 121.

Description of Relief Sought/Disposition: To permit Mr. Daryl Baker to conduct local sightseeing flights at the Windham Airport, Willimantic, Connecticut, between September 25, and October 10, 2004, for compensation or hire, without complying with certain anti-drug and alcohol misuse prevention requirements of part 135, subject to certain conditions and limitations. Grant, 9/20/2004, Exemption No. 8407.

Docket No.: FAA-2004-19006.

Petitioner: Traffic Management Corporation.

Section of 14 CFR Affected: 14 CFR 125.224.

Description of Relief Sought/Disposition: To permit Traffic Management Corporation to operate two leased L-188 Electra aircraft without a Traffic Alert and Collision Avoidance System II and the appropriate Mode S transponder for a period of 1-year, because of economic hardship endured since the terrorist attack of September 11, 2001. Denial, 9/16/2004, Exemption No. 8408.

Docket No.: FAA-2004-19004.

Petitioner: Zantop International Airlines, Inc.

Section of 14 CFR Affected: 14 CFR 121.356.

Description of Relief Sought/Disposition: To permit Zantop International Airlines, Inc., to operate certain aircraft without a Traffic Alert and Collision Avoidance System II and the appropriate Mode S transponder for a period of 1-year, because of economic hardship endured since the terrorist attack of September 11, 2001. Denial, 9/16/2004, Exemption No. 8409.

Docket No.: FAA-2000-8100.

Petitioner: Northwest Airlines, Inc.

Section of 14 CFR Affected: 14 CFR 121.440(a) and SFAR 68, section 6(b)(3)(ii)(A).

Description of Relief Sought/Disposition: To permit Northwest Airlines, Inc., an amendment to Exemption No. 5815, that will enable them to meet line check requirements using an alternative line check program, subject to revised conditions and limitations. Grant, 9/16/2004, Exemption No. 5815F.

[FR Doc. 04-22853 Filed 10-8-04; 8:45 am]

BILLING CODE 4910-13-P